DEPARTMENT OF VETERANS AFFAIRS

38 CFR Part 4

RIN 2900-AP88

Schedule for Rating Disabilities: Musculoskeletal System and Muscle Injuries; Correction

AGENCY: Department of Veterans Affairs.

ACTION: Final rule; correction.

SUMMARY: The Department of Veterans Affairs (VA) is making correcting amendments to the final rule published on November 30, 2020. The final rule amends the Department of Veterans Affairs (VA) Schedule for Rating Disabilities (“VASRD” or “rating schedule”) by revising the portion of the rating schedule that addresses the musculoskeletal system.

DATES: Effective February 7, 2021.

FOR FURTHER INFORMATION CONTACT: Gary Reynolds, M.D., Regulations Staff (211C), Compensation Service, Veterans Benefits Administration, Department of Veterans Affairs, 810 Vermont Avenue NW, Washington, DC 20420, (202) 461-9700. (This is not a toll-free number.)

SUPPLEMENTARY INFORMATION: VA is correcting its final rule, “RIN 2900-AP88; Schedule for Rating Disabilities: Musculoskeletal System and Muscle Injuries”, that was published on November 30, 2020, in the Federal Register at 38 CFR, Vol. 85, No. 230, 76453. The first error is with instruction 2(a), in which we intended to revise diagnostic code 5003. We are correcting this error by revising the entire diagnostic code 5003. The second error contains inaccurate diagnostic codes for Prosthetic implants in appendix C. We are correcting this error by revising the entry for Prosthetic implants.

Jeffrey M. Martin,
Assistant Director, Office of Regulation Policy & Management, Office of the Secretary, Department of Veterans Affairs.

In FR Doc. 2020-25450 appearing on page 76453 in the Federal Register of Monday, November 30, 2020, the following corrections are made:

§ 4.71a [Corrected]

1. On page 76460, in § 4.71a, the entry for diagnostic code 5003 is correctly revised to read as follows:

§ 4.71a Schedule of ratings—musculoskeletal system.

Acute, Subacute, or Chronic Diseases
| Rating
* * * * * * *
5003 Degenerative arthritis, other than post-traumatic:
Degenerative arthritis established by X-ray findings will be rated on the basis of limitation of motion under the appropriate diagnostic codes for the specific joint or joints involved (DC 5200 etc.). When however, the limitation of motion of the specific joint or joints involved is noncompensable under the appropriate diagnostic codes, a rating of 10 pct is for application for each such major joint or group of minor joints affected by limitation of motion, to be combined, not added under diagnostic code 5003. Limitation of motion must be objectively confirmed by findings such as swelling, muscle spasm, or satisfactory evidence of painful motion. In the absence of limitation of motion, rate as below:
With X-ray evidence of involvement of 2 or more major joints or 2 or more minor joint groups, with occasional incapacitating exacerbations | 20
With X-ray evidence of involvement of 2 or more major joints or 2 or more minor joint groups | 10
Note (1): The 20 pct and 10 pct ratings based on X-ray findings, above, will not be combined with ratings based on limitation of motion.
Note (2): The 20 pct and 10 pct ratings based on X-ray findings, above, will not be utilized in rating conditions listed under diagnostic codes 5013 to 5024, inclusive.
* * * * * * *

Appendix C to Part 4 [Corrected]

2. On page 76469, in appendix C to part 4, the entry for “Prosthetic implants” is correctly revised to read as follows:

Appendix C to Part 4—Alphabetical Index of Disabilities

| Diagnostic code
* * * * * * *
Prosthetic implants:
Ankle replacement | 5056
Elbow replacement | 5052
Hip, resurfacing or replacement | 5054
Knee, resurfacing or replacement | 5055
Shoulder replacement | 5051
Wrist replacement | 5053
* * * * * * *

[FR Doc. 2020-26907 Filed 12-28-20; 8:45 am]

BILLING CODE 8320-01-P